DEPARTMENT OF JUSTICE

United States Parole Commission

Sunshine Act Meeting Notice

Public Announcement

Pursuant to the Government in the Sunshine Act (Public Law 94-409) [5 U.S.C. 552b]

Agency Holding Meeting: Department of Justice, United States Parole Commission.

Time and Date: 10 a.m., Thursday, October 25, 2007.

Place: 5550 Friendship Blvd., Fourth Floor, Chevy Chase, MD 20815.

Status: Open.

Matters To Be Considered: The following matters have been placed on the agenda for the open Parole Commission meeting:

1. Approval of Minutes of July 2007 Quarterly Business Meeting.

2. Reports from the Chairman, Commissioners, Chief of Staff, and Section Administrators.

3. Consideration of “Evaluation and Re-Validation of the U.S. Parole Guidelines Risk Instrument” by James Austin and Roger Ocker.

Agency Contact: Thomas W. Hutchison, Chief of Staff, United States Parole Commission, (301) 492-5990.

Dated: October 17, 2007.
Sharon A. Gervasoni,
Acting General Counsel, U.S. Parole Commission.

[FR Doc. 07-5219 Filed 10-18-07; 11:44 am]

BILLING CODE 4410-31-M